NEIGHBORHOOD REINVESTMENT CORPORATION

Sunshine Act Meeting

Time and Date: 2 PM, Wednesday, December 11, 2002.

Place: Washington Hilton & Towers Hotel, 1919 Connecticut Avenue NW, Cabinet Room, Concourse Level, Washington, DC 20009.

Status: Open/Closed.

Contact Person for more Information: Jeffrey T. Bryson, General Counsel/Secretary, (202) 220-2372.

Agenda

I. Call to Order

II. Approval of Minutes: September 10, 2002 Regular Meeting

III. Audit Committee Meeting 11/18/02

IV. Treasurer's Report

V. Executive Directors Report

VI. Executive Session (CLOSED)

A. Personnel Committee Meeting 11/15/02

VII. Adjournment

Jeffrey T. Bryson,
General Counsel Secretary.

[FR Doc. 02-31142 Filed 12-5-02; 11:17 am]

BILLING CODE 7570-01-M